DEPARTMENT OF TRANSPORTATION

Federal Aviation Administration

14 CFR Part 25

[Docket No. FAA-2012-0714]

Bleed Air Cleaning and Monitoring Equipment and Technology

ACTION: Notice; request for information.

SUMMARY: The FAA seeks information from industry developers, manufacturers, and the public related to effective air cleaning technology and sensor technology for the engine and auxiliary power unit bleed air supplied to the passenger cabin and flight deck of a pressurized aircraft. The information obtained will inform the agency of potential research and development plans.

DATES: Written comments must be received on or before September 17, 2012.

ADDRESSES: Send comments identified by docket number FAA-2012-0714 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: For questions concerning this action, contact Jim Knight, Research Planning Division, AVP-300, Office of Accident Investigation and Prevention, Federal Aviation Administration, 800 Independence Avenue SW., Washington, DC 20591; telephone (202) 493-5634, email james.knight@faa.gov.

SUPPLEMENTARY INFORMATION:

Background

Section 917 of the approved FAA Modernization and Reform Act of 2012, H.R. Bill 658, requires the FAA to identify bleed air purification technology. Specifically, the FAA seeks information about bleed air cleaning, and contaminant detection and recording technologies which are capable of removing oil-based contaminants from the bleed air supplied to the passenger cabin and flight deck, and detecting and recording oil-based contaminants in the total air supplied to the passenger cabin and flight deck from bleed air.

The FAA recognizes there are various design concepts used by both developers and manufacturers of cabin air environmental control units. Given the design and performance variation in these technologies, the FAA seeks information from the industry to assist in its evaluation of the types of air cleaning and monitoring technology that will successfully detect, remove and report on engine-produced, oil-based cabin air contaminants.

Request for Information

The FAA requests that the comments specifically address the following areas to this notice:

• Design and operational description

• Physical dimensions of the device(s), including weight

• Power, interconnect, and other installation requirements

• Operational dimensions for the technology/system

• Maintenance needs to assure system performance

• Safety mechanisms designed into the technology/system to minimize or mitigate anticipated hazards

For detection technologies, please identify:

• Contaminants the device can detect and sensitivity for each

• Location of the detection device placed in the air distribution system

For air cleaning technologies, please identify:

• Contaminants the device can remove

• Overall system capacity

• Cleaning effectiveness for each contaminant

Again, this information must be submitted by September 17, 2012.

Comments Invited

The FAA invites interested persons to submit written comments, data, or views. The most helpful comments reference a specific area of concern, explain the reason for any recommended change, and include supporting data. To ensure the docket does not contain duplicate comments, commenters should send only one copy of written comments, or if comments are filed electronically, commenters should submit only one time.

The FAA will file in the docket all comments it receives, as well as a report summarizing each substantive public contact with FAA personnel concerning this notice. The FAA will consider all comments it receives on or before the closing date for comments. The FAA will consider comments filed after the comment period has closed if it is possible to do so without incurring expense or delay.

Proprietary or Confidential Business Information: Commenters should not file proprietary or confidential business information in the docket. Such information must be sent or delivered directly to the person identified in the FOR FURTHER INFORMATION CONTACT section of this document, and marked as proprietary or confidential. If submitting information on a disk or CD-ROM, mark the outside of the disk or CD ROM, and identify electronically within the disk or CD-ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

Issued in Washington, DC, on July 6, 2012.
Wendell L. Griffin,
Deputy Director, Office of Accident Investigation and Prevention.

[FR Doc. 2012-17368 Filed 7-16-12; 8:45 am]

BILLING CODE 4910-13-P